DEPARTMENT OF THE INTERIOR

Fish and Wildlife Service

50 CFR Part 17

Endangered and Threatened Wildlife and Plants; Reopening of Comment Period for Status Review Addressing the Washington Population of Western Sage Grouse

AGENCY: Fish and Wildlife Service, Interior.

ACTION: Status Review; notice of reopening of comment period.

SUMMARY: Pursuant to the Endangered Species Act of 1973, as amended (Act), the United States Fish and Wildlife Service (Service) provides notice of the reopening of the comment period for the status review addressing the Washington population of western sage grouse (Centrocercus urophasianus phaios). Reopening of the comment period will allow further opportunity for all interested parties to submit additional information and written comments to be considered by the Service for this status review (see DATES and ADDRESSES).

DATES: Written materials from interested parties must be received by February 16, 2001.

ADDRESSES: You may submit written comments, reports, map products, and other information concerning this status review to the Field Supervisor, U.S. Fish and Wildlife Service, Upper Columbia River Basin Fish and Wildlife Office, 11103 East Montgomery Drive, Spokane, Washington 99206.

FOR FURTHER INFORMATION CONTACT: Chris Warren at the address listed above, or by telephone at (509) 893-8020, or by facsimile at (509) 891-6748.

SUPPLEMENTARY INFORMATION:

Background

In July 2000, the American Ornithologists' Union (AOU) recognized sage grouse (Centrocercus urophasianus) by the common name of greater sage grouse. In addition, the AOU now recognizes sage grouse inhabiting southwestern Colorado and extreme southeastern Utah as a congeneric species (C. minimus), referred to as Gunnison sage grouse (AOU 2000). The western subspecies of greater sage grouse (C. u. phaios) was first described in 1946 (Aldrich 1946), and was recognized by the AOU in 1957 (AOU 1957). Compared to birds throughout the remainder of the species' range, western sage grouse have reduced white markings and darker grayish-brown feathering, resulting in a more dusky overall appearance. The above nomenclature and recognized ranges for these taxa have been adopted by the United States Fish and Wildlife Service in this notice, and will be used for subsequent work concerning this status review.

Greater sage grouse are the largest North American grouse species. Historically, greater sage grouse were believed to occur in 12 states and 3 Canadian provinces (after Schroeder et al. 1999); their range extending from southeastern Alberta and southwestern Saskatchewan, Canada, south to northwestern Colorado, west to eastern California, Oregon, and Washington, and north to southern British Columbia, Canada. Currently, greater sage grouse occur in 11 states and 2 Canadian provinces, having been extirpated from Nebraska and British Columbia (after Braun 1998). The historic distribution of western sage grouse extended from southern British Columbia southward through eastern Washington and Oregon, except in extreme southeastern Oregon near the Idaho/Nevada borders (Aldrich 1963). Currently, western sage grouse occur in southeastern Oregon and central Washington (Johnsgard 1973, Drut 1994, WDFW 1995).

Range wide, the distribution of greater sage grouse has declined in a number of areas, most notably along the periphery of their historic range. In addition, there is general consensus in the literature that there have been considerable declines from historic abundance levels, and much of the overall decline occurred from the late 1800s to the mid 1900s (Hornaday 1916, Crawford and Lutz 1985, Drut 1994, WDFW 1995, Coggins and Crawford 1996, Braun 1998, Schroeder et al. 1999, among others). The available information indicates that the current range-wide population estimate for greater sage grouse is between roughly 100,000 and 500,000 individuals. Based on rough historic estimates, greater sage grouse abundance may have declined by over 69 percent from historic levels.

Until the early 1900s, western sage grouse were distributed throughout central and eastern Oregon in sagebrush dominated areas until the early 1900s. By 1920, western sage grouse populations in Oregon had decreased and were considered scarce except for areas in south-central Oregon (Gabrielson and Jewett 1940, Drut 1994). The distribution of western sage grouse in Oregon declined by approximately 50 percent from 1900 to 1940 (Crawford and Lutz 1985), and further declines in distribution and abundance likely continued into the mid-1980s (Crawford and Lutz 1985). Presently, Malheur, Harney, and Lake Counties harbor the bulk of western sage grouse in Oregon (roughly 24,000 to 58,000 birds), with the remaining portion (roughly 3,000 to 8,000 birds) split among Baker, Crook, Deschutes, Grant, Klamath, Union, and Wheeler Counties (after Willis et al. 1993).

Historically, western sage grouse in Washington ranged from Oroville in the north, west to the Cascade foothills, east to the Spokane River, and south to the Oregon border (Yocom 1956). Western sage grouse have been extirpated from 7 counties in Washington and currently occupy approximately 10 percent of their historic range in the state; the two remaining subpopulations total roughly 1,000 birds (WSGWG 1998). One subpopulation occurs primarily on private and state owned lands in Douglas County (approximately 650 birds), the other occurs at the Yakima Training Center (YTC), administered by the Army, in Kittitas and Yakima Counties (approximately 350 birds). These two subpopulations are geographically isolated from the Oregon population (WDFW 1995, Livingston 1998) and nearly isolated from one another (WSGWG 1998).

The May 28, 1999, petition addressing the listing of western sage grouse under the Act requested that the subspecies be listed as threatened or endangered in Washington, yet the Service does not base listing decisions on political subdivisions beyond that of international boundaries. However, the Service has developed policy that addresses the recognition of distinct population segments (DPS) of vertebrate species and subspecies for consideration under the Act (61 FR 4722). The DPS policy was developed to address the measures prescribed by the Act and its Congressional guidance. The policy allows for more refined application of the Act that better reflects the biological needs of the taxon being considered, and avoids the inclusion of entities that do not require the protective measures of the Act. Under the DPS policy, two elements are used to assess whether a population under consideration for listing may be recognized as a DPS. The two elements are: (1) A population segment's discreteness from the remainder of the taxon; and (2) the population segment's significance to the taxon to which it belongs.

The Service's 90-day finding for the subject petition (65 FR 51578) found that the western sage grouse population in Washington may represent a DPS for the following reasons: (1) It is discrete from other populations of the subspecies; (2) the population represents the only western (or greater) sage grouse occurring within the Columbia Plateau Ecological Reporting Unit (ERU) (after Quigley and Arbelbide 1997), which represents approximately one half of the historic range of western sage grouse; (3) the life history attributes of western sage grouse in Washington may demonstrate persistence of the subspecies (and species) in an ecological setting unusual or unique for the taxon; and (4) the loss of this population segment may result in a significant gap in the range of the taxon. Currently, there is not enough information to determine if the population of western sage grouse in Washington may exhibit a significantly different genetic makeup compared to the remainder of the taxon.

Since the early 1900s, large portions of the shrub steppe ecosystem in Washington have been converted for dryland and irrigated crop production (Daubenmire 1988, WDFW 1995). Dobler (1994) estimated that approximately 60 percent of the original shrub steppe habitat in Washington had been converted for other, primarily agricultural, uses. While at much reduced levels, shrub steppe habitat continues to be converted for crop production. Cassidy (1997) considered major portions of Washington's shrub steppe ecosystem as the least protected biogeographic zones in the state.

Excessive grazing pressure can have significant impacts on the shrub steppe ecosystems found throughout the historic range of greater sage grouse (Fleischner 1994), and these impacts may be exacerbated in portions of the Columbia Plateau that support western sage grouse. In this region, excessive grazing removes herbaceous growth and residual cover of native grasses and forbs, and can increase the canopy cover and density of sagebrush and undesirable invasive species (Daubenmire 1988, WDFW 1995, Livingston 1998). These impacts may be especially critical to the reproductive success of western sage grouse during the spring nesting and brood rearing periods (Crawford 1997, Connelly and Braun 1997, Schroeder et al. 1999).

Lands under the Federal Conservation Reserve Program (CRP) have become important to the subpopulation of western sage grouse in north-central Washington (Schroeder, Washington Department of Fish and Wildlife, pers. comm. September 1999). However, CRP contracts extend for only 10 years, and new standards for CRP lands may be implemented that require replanting of significant acreage under existing contracts (USDA 1998). Presently, it is unclear what effects these changes have had, or will have, on the northern subpopulation of western sage grouse in Washington.

Large-scale military training exercises occur at the YTC, and are scheduled at roughly 18 to 24 month intervals (USDD 1989, Livingston 1998). Modeling exercises indicate that sagebrush cover at YTC would decline due to large-scale training scenarios if conducted on a biannual basis (Cadwell et al. 1996). The Army conducts aggressive revegetation efforts for sagebrush and native grasses at the YTC (Livingston 1998) and has eliminated season-long grazing on the installation (USDD 1996). However, evaluation of the quality or quantity of naturally recovered areas and the efficacy of revegetation efforts is currently not available.

Natural and human-caused fire is a significant threat to western sage grouse throughout Washington because, at increased frequencies, it can remove sagebrush from the vegetation assemblage (WDFW 1995). Fire may be especially damaging at the YTC where military training activities provide multiple ignition sources, vegetative cover is relatively continuous, and invasive species may provide fine fuels that can carry a fire. Livingston (1998) indicates that a single, large range fire within the identified western sage grouse protection areas could jeopardize the species' persistence at the installation.

The fragmented, isolated nature of the population of western sage grouse that occurs in Washington is a concern for the conservation of the species in the northwestern extension of its historic range. Preliminary viability analyses conducted by the WSGWG (1998) indicates that neither subpopulation is likely viable at current levels over the long-term (approximately 100 years).

The Service published a notice in the Federal Register on August 24, 2000, that a range-wide status review of the Washington population of western sage grouse was being conducted (65 FR 51578). The original comment period for this status review closed October 23, 2000. The Service will now accept information concerning this status review through February 16, 2000. The Service will also solicit the opinions of appropriate specialists regarding the data, assumptions, and supportive information presented for this status review, per the Interagency Cooperative Policy for Peer Review in Endangered Species Act Activities (59 FR 34270).

References Cited

A complete list of all references cited herein, as well as others, is available upon request from the Upper Columbia River Basin Fish and Wildlife Office (see ADDRESSES section).

Author: The primary author of this notice is Chris Warren of the Upper Columbia River Basin Fish and Wildlife Office, U.S. Fish and Wildlife Service, 11103 East Montgomery Drive, Spokane, Washington 99206 [Telephone: (509) 893-8020].

Authority: The authority of this action is the Endangered Species Act of 1973, as amended (16 U.S.C. 1531 et seq.).

Dated: January 3, 2001.
Rowan W. Gould
Acting Regional Director, Region 1, Fish and Wildlife Service.

[FR Doc. 01-507 Filed 1-8-01; 8:45 am]

BILLING CODE 4310-55-P